DEPARTMENT OF COMMERCE

International Trade Administration

(A-791-815)

Ferrovanadium from South Africa: Notice of Rescission of Antidumping Duty Administrative Review

AGENCY: Import Administration, International Trade Administration, Department of Commerce.

EFFECTIVE DATE: May 6, 2008.

FOR FURTHER INFORMATION CONTACT: Brian Smith or Gemal Brangman, AD/CVD Operations, Office 2, Import Administration, International Trade Administration, U.S. Department of Commerce, 14th Street and Constitution Avenue, NW, Washington, DC 20230; telephone: (202) 482-1766 or (202) 482-3773, respectively.

SUPPLEMENTARY INFORMATION:

Background

On January 2, 2008, the Department of Commerce (the Department) published a notice of opportunity to request an administrative review of the antidumping duty order on ferrovanadium from South Africa. See Antidumping or Countervailing Duty Order, Finding, or Suspended Investigation: Opportunity to Request Administrative Review, 73 FR 158 (January 2, 2008). On January 31, 2008, Mittal Steel Lazaro Cardenas (an exporter of subject merchandise) requested that the Department conduct an administrative review on its behalf. On February 27, 2008, the Department published a notice of initiation of the antidumping duty administrative review of ferrovanadium from South Africa for the period January 1, 2007, through December 31, 2007. See Initiation of Antidumping and Countervailing Duty Administrative Reviews, 73 FR 10422 (February 27, 2008).

Rescission of Review

Pursuant to 19 CFR 351.213(d)(1), the Secretary will rescind an administrative review, in whole or in part, if the party that requested the review withdraws the request within 90 days of the date of publication of the notice of initiation of the requested review. On April 22, 2008, Mital Steel Lazaro Cardenas withdrew its request for an administrative review within 90 days of publication of the notice of initiation of this review. Therefore, in accordance with 19 CFR 351.213(d)(1), the Department hereby rescinds the administrative review of ferrovanadium from South Africa for the period January 1, 2007, through December 31, 2007. The Department intends to issue assessment instructions to U.S. Customs and Border Protection 15 days after the date of publication of this notice of rescission of administrative review.

This notice is issued and published in accordance with section 777(i) of the Tariff Act of 1930, as amended, and 19 CFR 351.213(d)(4).

Dated: April 30, 2008.
Stephen J. Claeys,
Deputy Assistant Secretary for Import Administration.

[FR Doc. E8-9988 Filed 5-5-08; 8:45 am]

BILLING CODE 3510-DS-S